DEPARTMENT OF ENERGY

Federal Energy Regulatory Commission

Combined Notice of Filings #1

Take notice that the Commission received the following electric corporate filings:

Docket Numbers: EC24-20-000.

Applicants: DCR Transmission, L.L.C.

Description: Application for Authorization Under Section 203 of the Federal Power Act of DCR Transmission, L.L.C.

Filed Date: 11/21/23.

Accession Number: 20231121-5230.

Comment Date: 5 p.m. ET 12/12/23.

Take notice that the Commission received the following electric rate filings:

Docket Numbers: ER15-632-012; ER15-634-012; ER19-2287-003; ER14-2939-010; ER15-2728-012; ER19-2294-003; ER16-711-009; ER14-2466-013; ER14-2465-013; ER19-2305-003.

Applicants: Valencia Power, LLC, RE Columbia Two LLC, Database returns error. There is a problem with archive data and system. Contact Administrator., Pio Pico Energy Center, LLC, Mesquite Power, LLC, Maricopa West Solar PV, LLC, Imperial Valley Solar Company (IVSC) 2, LLC, Goal Line L.P., Cottonwood Solar, LLC, CID Solar, LLC.

Description: Supplement to January 3, 2022, Triennial Market Power Analysis for Southwest Region of CID Solar, LLC, et. al.

Filed Date: 11/20/23.

Accession Number: 20231120-5234.

Comment Date: 5 p.m. ET 12/11/23.

Docket Numbers: ER15-1471-014; ER13-291-004; ER15-1672-013; ER16-2010-008; ER14-1468-015; ER10-2201-005.

Applicants: Marina Energy, LLC, KMC Thermo, LLC, Hancock Wind, LLC, Evergreen Wind Power II, LLC, EnergyMark, LLC, Blue Sky West, LLC.

Description: Supplement to June 30, 2023, Triennial Market Power Analysis for Northeast Region of Marina Energy, LLC, et al.

Filed Date: 11/20/23.

Accession Number: 20231120-5220.

Comment Date: 5 p.m. ET 12/11/23.

Docket Numbers: ER17-1794-005.

Applicants: Innovative Solar 42, LLC.

Description: Supplement to May 2, 2022, Notice of Change in Status of Innovative Solar 42, LLC under ER17-1794.

Filed Date: 11/20/23.

Accession Number: 20231120-5223.

Comment Date: 5 p.m. ET 12/11/23.

Docket Numbers: ER20-59-005; ER15-1471-013; ER10-1946-017; ER15-632-015; ER16-915-007; ER15-634-015; ER13-291-003; ER15-1672-012; ER20-422-004; ER20-58-004; ER10-2861-012; ER20-57-004; ER19-2287-005; ER16-2520-006; ER16-612-002; ER16-2010-007; ER14-2939-013; ER14-1468-014; ER18-97-004; ER10-1874-016; ER19-9-010; ER15-2728-015; ER10-2201-004; ER19-2294-005; ER14-2140-014; ER12-1308-015; ER15-1952-014; ER16-711-011; ER14-2466-016; ER14-2465-016; ER14-2141-014; ER16-2561-007; ER13-1504-013; ER19-8-006; ER17-318-006; ER20-339-004; ER19-2305-005; ER10-2721-014.

Applicants: El Paso Electric Company, Valencia Power, LLC, Twiggs County Solar, LLC, Three Peaks Power, LLC, Sweetwater Solar, LLC, SWG Arapahoe, LLC, Sunflower Wind Project, LLC, Selmer Farm, LLC, RE Columbia Two LLC, RE Camelot LLC, Pio Pico Energy Center, LLC, Pavant Solar LLC, Palouse Wind, LLC, Mulberry Farm, LLC, Mesquite Power, LLC, Marina Energy, LLC, Maricopa West Solar PV, LLC, Mankato Energy Center II, LLC, Mankato Energy Center, LLC, MS Solar 3, LLC, KMC Thermo, LLC, Imperial Valley Solar Company (IVSC) 2, LLC, Hancock Wind, LLC, Greeley Energy Facility, LLC, Grand View PV Solar Two LLC, Goal Line L.P., GA Solar 3, LLC, Fountain Valley Power, L.L.C., FL Solar 4, LLC, FL Solar 1, LLC, Evergreen Wind Power II, LLC, EnergyMark, LLC, Cottonwood Solar, LLC, Comanche Solar PV, LLC, CID Solar, LLC, Broad River Energy LLC, Blue Sky West, LLC, AZ Solar 1, LLC.

Description: Supplement to May 1, 2023, Notice of Non-Material Change in Status of AZ Solar 1, LLC, et. al.

Filed Date: 11/20/23.

Accession Number: 20231120-5231.

Comment Date: 5 p.m. ET 12/11/23.

Docket Numbers: ER23-1955-001.

Applicants: Earthrise Lincoln Interconnection, LLC.

Description: Compliance filing: Compliance Filing Reflecting Actual Effective Date of Tariff Records to be effective N/A.

Filed Date: 11/22/23.

Accession Number: 20231122-5083.

Comment Date: 5 p.m. ET 12/13/23.

Docket Numbers: ER23-1957-001.

Applicants: Earthrise Gibson City Interconnection, LLC.

Description: Compliance filing: Compliance Filing Reflecting Actual Effective Date of Tariff Records to be effective N/A.

Filed Date: 11/22/23.

Accession Number: 20231122-5080.

Comment Date: 5 p.m. ET 12/13/23.

Docket Numbers: ER23-1959-001.

Applicants: Earthrise Crete Interconnection, LLC.

Description: Compliance filing: Compliance Filing Reflecting Actual Effective Date of Tariff Records to be effective N/A.

Filed Date: 11/22/23.

Accession Number: 20231122-5077.

Comment Date: 5 p.m. ET 12/13/23.

Docket Numbers: ER23-2015-001.

Applicants: Crete Energy Venture, LLC.

Description: Compliance filing: Compliance Filing Reflecting Actual Effective Date of Tariff Records to be effective N/A.

Filed Date: 11/22/23.

Accession Number: 20231122-5074.

Comment Date: 5 p.m. ET 12/13/23.

Docket Numbers: ER23-2016-001.

Applicants: Lincoln Generating Facility, LLC.

Description: Compliance filing: Compliance Filing Reflecting Actual Effective Date of Tariff Records to be effective N/A.

Filed Date: 11/22/23.

Accession Number: 20231122-5085.

Comment Date: 5 p.m. ET 12/13/23.

Docket Numbers: ER23-2017-001.

Applicants: Gibson City Energy Center, LLC.

Description: Compliance filing: Compliance Filing Reflecting Actual Effective Date of Tariff Records to be effective N/A.

Filed Date: 11/22/23.

Accession Number: 20231122-5082.

Comment Date: 5 p.m. ET 12/13/23.

Docket Numbers: ER23-2374-003.

Applicants: PJM Interconnection, L.L.C.

Description: Tariff Amendment: Amendment of Response to Commission's 9/1/23 Deficiency Letter in ER23-2347 to be effective 9/11/2023.

Filed Date: 11/22/23.

Accession Number: 20231122-5111.

Comment Date: 5 p.m. ET 12/13/23.

Docket Numbers: ER23-2449-002.

Applicants: Lyons Solar, LLC.

Description: Tariff Amendment: Response to Deficiency Letter to be effective 10/1/2023.

Filed Date: 11/22/23.

Accession Number: 20231122-5119.

Comment Date: 5 p.m. ET 12/13/23.

Docket Numbers: ER23-2713-001.

Applicants: PJM Interconnection, L.L.C.

Description: Tariff Amendment: Response to Commission's 10/26/23 Deficiency Letter in ER23-2713 to be effective 7/27/2023.

Filed Date: 11/22/23.

Accession Number: 20231122-5095.

Comment Date: 5 p.m. ET 12/13/23.

Docket Numbers: ER23-2764-001.

Applicants: Northeastern Power & Gas, LLC.

Description: Tariff Amendment: Amendment to 1—Deficiency filing to be effective 9/25/2023.

Filed Date: 11/22/23.

Accession Number: 20231122-5087.

Comment Date: 5 p.m. ET 12/13/23.

Docket Numbers: ER23-2935-001.

Applicants: Midcontinent Independent System Operator, Inc., Northern Indiana Public Service Company LLC.

Description: Tariff Amendment: Midcontinent Independent System Operator, Inc. submits tariff filing per 35.17(b): 2023-11-22_Amendment NIPSCO Request for Depreciation Rates to be effective 12/31/9998.

Filed Date: 11/22/23.

Accession Number: 20231122-5092.

Comment Date: 5 p.m. ET 12/13/23.

Docket Numbers: ER24-463-000.

Applicants: Elektron Solar, LLC.

Description: 205(d) Rate Filing: Revised Market-Based Rate Tariff Filing to be effective 1/21/2024.

Filed Date: 11/21/23.

Accession Number: 20231121-5163.

Comment Date: 5 p.m. ET 12/12/23.

Docket Numbers: ER24-464-000.

Applicants: Horseshoe Solar, LLC.

Description: 205(d) Rate Filing: Revised Market-Based Rate Tariff Filing to be effective 1/21/2024.

Filed Date: 11/21/23.

Accession Number: 20231121-5166.

Comment Date: 5 p.m. ET 12/12/23.

Docket Numbers: ER24-465-000.

Applicants: Nestlewood Solar I LLC.

Description: Baseline eTariff Filing: Reactive Power Tariff Application to be effective 12/27/2023.

Filed Date: 11/21/23.

Accession Number: 20231121-5170.

Comment Date: 5 p.m. ET 12/12/23.

Docket Numbers: ER24-466-000.

Applicants: PJM Interconnection, L.L.C.

Description: 205(d) Rate Filing: Original NSA, Service Agreement No. 7140; Queue No. U2-073/Z2-103/AB2-038 to be effective 1/22/2024.

Filed Date: 11/21/23.

Accession Number: 20231121-5203.

Comment Date: 5 p.m. ET 12/12/23.

Docket Numbers: ER24-467-000.

Applicants: Southwest Power Pool, Inc.

Description: 205(d) Rate Filing: 3984 Cowskin Solar Energy GIA Cancellation to be effective 8/9/2023.

Filed Date: 11/22/23.

Accession Number: 20231122-5000.

Comment Date: 5 p.m. ET 12/13/23.

Docket Numbers: ER24-468-000.

Applicants: Black Walnut Energy Storage, LLC.

Description: Baseline eTariff Filing: Black Walnut Energy Storage, LLC Co-Tenancy and Shared Facilities Agreement to be effective 11/23/2023.

Filed Date: 11/22/23.

Accession Number: 20231122-5052.

Comment Date: 5 p.m. ET 12/13/23.

Docket Numbers: ER24-469-000.

Applicants: Arizona Public Service Company.

Description: 205(d) Rate Filing: Rate Schedule No. 245, Amendment No. 1 to be effective 1/22/2024.

Filed Date: 11/22/23.

Accession Number: 20231122-5056.

Comment Date: 5 p.m. ET 12/13/23.

Docket Numbers: ER24-470-000.

Applicants: Midcontinent Independent System Operator, Inc.

Description: 205(d) Rate Filing: 2023-11-22_SA 3413 Ameren IL-Cass County Solar Project 3rd Rev GIA (J859) to be effective 11/13/2023.

Filed Date: 11/22/23.

Accession Number: 20231122-5059.

Comment Date: 5 p.m. ET 12/13/23.

Docket Numbers: ER24-471-000.

Applicants: Indra Power Business OH LLC.

Description: Baseline eTariff Filing: 2023-11-22 Indra Power Business OH LLC Market-Based Rate Application Filing to be effective 1/22/2024.

Filed Date: 11/22/23.

Accession Number: 20231122-5081.

Comment Date: 5 p.m. ET 12/13/23.

Docket Numbers: ER24-472-000.

Applicants: NextEra Energy Transmission MidAtlantic Indiana, Inc., PJM Interconnection, L.L.C.

Description: 205(d) Rate Filing: NextEra Energy Transmission MidAtlantic Indiana, Inc. submits tariff filing per 35.13(a)(2)(iii: NextEra Energy MidAtlantic Indiana, Inc. Request for Rate Incentive Treatment to be effective 1/22/2024.

Filed Date: 11/22/23.

Accession Number: 20231122-5112.

Comment Date: 5 p.m. ET 12/13/.

Docket Numbers: ER24-473-000.

Applicants: PJM Interconnection, L.L.C.

Description: 205(d) Rate Filing: Original NSA, Service Agreement No. 7141; Queue No. AG1-045 to be effective 1/22/2024.

Filed Date: 11/22/23.

Accession Number: 20231122-5133.

Comment Date: 5 p.m. ET 12/13/23.

Docket Numbers: ER24-474-000.

Applicants: Hardin Solar Energy II LLC

Description: Initial rate filing: Filing of Shared Facilities Agreement to be effective 1/22/2024.

Filed Date: 11/22/23.

Accession Number: 20231122-5164.

Comment Date: 5 p.m. ET 12/13/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 22, 2023.
Debbie-Anne A. Reese,
Deputy Secretary.

[FR Doc. 2023-26245 Filed 11-28-23; 8:45 am]

BILLING CODE 6717-01-P